DEPARTMENT OF THE INTERIOR

Bureau of Ocean Energy Management, Regulation and Enforcement

Environmental Documents Prepared in Support of Oil and Gas Activities on the Alaska Outer Continental Shelf

AGENCY: Bureau of Ocean Energy Management, Regulation and Enforcement (BOEMRE), Interior.

ACTION: Notice of Availability of Recent Environmental Assessments and Findings of No Significant Impact Prepared by the BOEMRE.

SUMMARY: Pursuant to Section 102(2)(C) of the National Environmental Policy Act (NEPA), the Council on Environmental Quality regulations (40 CFR parts 1500-1508), and the Department of the Interior regulations on NEPA (43 CFR part 46), BOEMRE announces the availability of Environmental Assessments (EA) and Findings of No Significant Impact (FONSI) prepared for two oil and gas activities proposed on the Alaska Outer Continental Shelf (OCS) and described in more detail below.

FOR FURTHER INFORMATION CONTACT: Jeffery Loman, Deputy Regional Director, BOEMRE, Alaska OCS Region, 3801 Centerpoint Drive, Suite 500, Anchorage, Alaska 99503-5823; telephone 1-800-764-2627; e-mail AKwebmaster@boemre.gov. EA Availability: To obtain a copy of an EA and/or FONSI, you may contact BOEMRE or visit the BOEMRE Web site at http://alaska.boemre.gov/.

SUPPLEMENTARY INFORMATION: BOEMRE prepares EAs that examine the potential environmental effects of proposals for activities to evaluate oil and gas resource potential on the Alaska OCS. Each EA examines the potential environmental effects of activities described in the proposals and presents BOEMRE conclusions regarding the level and significance of those effects. The EAs are used as the basis for determining whether or not approvals of the proposals would significantly affect the quality of the human environment in the sense of NEPA Section 102(2)(C). A FONSI is prepared in those instances where BOEMRE finds that approval of the proposals will not result in significant effects on the quality of the human environment.

This notice constitutes the notice of availability to the public of the following environmental documents:

Project name | Location | Project purpose | FONSI
Shell Exploration & Production, Ancillary Activities, Marine Surveys OCS EIS/EA MMS 2010-022 | Beaufort Sea, Alaska | Conduct Ancillary activities | 7/12/2010
Statoil USA E&P Inc. 2010 Seismic Survey OCS EIS/EA BOEMRE 2010-020 | Chukchi Sea, Alaska | Conduct 2D/3D Sesimic Surveys | 7/23/2010

BOEMRE has concluded that the respective proposed actions will not significantly affect the quality of the human environment and that the preparation of EISs is not required. Mitigation measures identified during the NEPA process will be applied for each proposal to ensure environmental protection and safety.

Dated: October 20, 2010.
John Goll,
Regional Director, Alaska OCS Region.

[FR Doc. 2010-28783 Filed 11-15-10; 8:45 am]

BILLING CODE 4310-MR-P